DEPARTMENT OF AGRICULTURE

Submission for OMB Review; Comment Request; Correction

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 25, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Agricultural Surveys Program.

OMB Control Number: 0535-0213.

Summary of Collection: The Department of Agriculture published a document in the Federal Register on February 16, 2024, 89 FR 12302, concerning a request for comments for the substantive change request on the Information Collection “Agricultural Surveys Program” OMB control number 0535-0213. In this FRN, it was stated Comments regarding these information collections are best assured of having their full effect if received by March 18, 2024. Written comments and recommendations for the proposed information collection should be submitted, identified by docket number 0535-0213, within 30 days of the publication of this notice by any of the following methods:

• Email: ombofficer@nass.usda.gov. Include docket number above in the subject line of the message.

• E-fax: 855-838-6382.

• Mail: Mail any paper, disk, or CD-ROM submissions to: Richard Hopper, NASS Clearance Officer, U.S. Department of Agriculture, Room 5336, South Building, 1400 Independence Avenue SW, Washington, DC 20250-2024.

• Hand Delivery/Courier: Hand deliver to: Richard Hopper, NASS Clearance Officer, U.S. Department of Agriculture, Room 5336 South Building, 1400 Independence Avenue SW, Washington, DC 20250-2024.

That statement needs to be corrected to state, “Comments regarding these information collections are best assured of having their full effect if received by March 18, 2024. Written comments and recommendations for the proposed information collection should be submitted within 30 days of the publication of this notice on the following website www.reginfo.gov/public/do/PRAMain. Find this particular information collection by selecting “Currently under 30-day Review—Open for Public Comments” or by using the search function.

National Agricultural Statistics Service

Title: Agricultural Resource Management Phases 1 & 2 and Chemical Use Surveys.

OMB Control Number: 0535-0218.

Summary of Collection: The Department of Agriculture published a document in the Federal Register on February 16, 2024, 89 FR 12302, concerning a request for comments for the substantive change request on the Information Collection “Agricultural Resource Management Phases 1 & 2 and Chemical Use Surveys” OMB control number 0535-0218. In this FRN, it was stated Comments regarding these information collections are best assured of having their full effect if received by March 18, 2024. Written comments and recommendations for the proposed information collection should be submitted, identified by docket number 0535-0218, within 30 days of the publication of this notice by any of the following methods:

• Email: ombofficer@nass.usda.gov. Include docket number above in the subject line of the message.

• E-fax: 855-838-6382.

• Mail: Mail any paper, disk, or CD-ROM submissions to: Richard Hopper, NASS Clearance Officer, U.S. Department of Agriculture, Room 5336 South Building, 1400 Independence Avenue SW, Washington, DC 20250-2024.

• Hand Delivery/Courier: Hand deliver to: Richard Hopper, NASS Clearance Officer, U.S. Department of Agriculture, Room 5336, South Building, 1400 Independence Avenue SW, Washington, DC 20250-2024.

That statement needs to be corrected to state, “Comments regarding these information collections are best assured of having their full effect if received by March 18, 2024. Written comments and recommendations for the proposed information collection should be submitted within 30 days of the publication of this notice on the following website www.reginfo.gov/public/do/PRAMain. Find this particular information collection by selecting “Currently under 30-day Review—Open for Public Comments” or by using the search function.

National Agricultural Statistics Service

Title: Water Use Survey.

OMB Control Number: 0535-0262.

Summary of Collection: The Department of Agriculture published a document in the Federal Register on February 16, 2024, 89 FR 12302, concerning a request for comments for the substantive change request on the Information Collection “Water Use Survey” OMB control number 0535-0262. In this FRN, it was stated Comments regarding these information collections are best assured of having their full effect if received by March 18, 2024. Written comments and recommendations for the proposed information collection should be submitted, identified by docket number 0535-0262, within 30 days of the publication of this notice by any of the following methods:

• Email: ombofficer@nass.usda.gov. Include docket number above in the subject line of the message.

• E-fax: 855-838-6382.

• Mail: Mail any paper, disk, or CD-ROM submissions to: Richard Hopper, NASS Clearance Officer, U.S. Department of Agriculture, Room 5336, South Building, 1400 Independence Avenue SW, Washington, DC 20250-2024.

• Hand Delivery/Courier: Hand deliver to: Richard Hopper, NASS Clearance Officer, U.S. Department of Agriculture, Room 5336, South Building, 1400 Independence Avenue SW, Washington, DC 20250-2024.

That statement needs to be corrected to state, “Comments regarding these information collections are best assured of having their full effect if received by March 18, 2024. Written comments and recommendations for the proposed information collection should be submitted within 30 days of the publication of this notice on the following website www.reginfo.gov/public/do/PRAMain. Find this particular information collection by selecting “Currently under 30-day Review—Open for Public Comments” or by using the search function.

Levi S. Harrell,
Departmental Information Collection Clearance Officer.

[FR Doc. 2024-03745 Filed 2-22-24; 8:45 am]

BILLING CODE 3410-20-P